DEPARTMENT OF COMMERCE

Economic Development Administration

13 CFR Chapter III

[Docket No.: 050729210-5250-02]

RIN 0610-AA63

Economic Development Administration Reauthorization Act of 2004 Implementation; Regulatory Revision

AGENCY: Economic Development Administration, Department of Commerce.

ACTION: Final rule; delay of effective date of certain provisions and extension of public comment period.

SUMMARY: On August 11, 2005, the Economic Development Administration (“EDA”) published an interim final rule in the Federal Register. This final rule delays the effective date of certain provisions in the interim final rule from October 1, 2005 until November 14, 2005. This final rule also extends the deadline for submitting public comments on the interim final rule from October 11, 2005 until November 14, 2005. The delay in effective date and the extension of the public comment period are necessary to provide additional time for the submission of public comments and to allow for EDA's additional consideration of matters pertaining to the effective implementation of the interim final rule. Capitalized terms used but not otherwise defined in this final rule have the meanings ascribed to them in the interim final rule.

DATES: The effective date of the following provisions of the interim final rule is delayed from October 1, 2005 until November 14, 2005: (i) Section 304.2(c)(2), pertaining to membership of a District Organization's governing body; and (ii) Section 301.4, as the provisions of this section relate to Investment Rates for EDA Planning Investments. The deadline for submitting public comments on the interim final rule is extended from 5 p.m. (e.s.t.) on October 11, 2005 until 5 p.m. (e.s.t.) on November 14, 2005.

FOR FURTHER INFORMATION CONTACT: Office of Chief Counsel, Economic Development Administration, Department of Commerce, Room 7005, 1401 Constitution Avenue, NW., Washington DC 20230; telephone: (202) 482-4687.

SUPPLEMENTARY INFORMATION: EDA published an interim final rule in the Federal Register (70 FR 47002) on August 11, 2005. The interim final rule reflects the amendments made to EDA's authorizing statute, the Public Works and Economic Development Act of 1965 (42 U.S.C. 3121 et seq.) (“PWEDA”), by the Economic Development Reauthorization Act of 2004 (Pub. L. 108-373). In addition to tracking the statutory amendments to PWEDA, the interim final rule reflects EDA's current practices and policies in administering its economic development programs that have evolved since the promulgation of EDA's current regulations (codified at 13 CFR Chapter III). The interim final rule also provides for a public comment period.

This final rule delays the effective date of the provisions specified above relating to EDA's Planning Investments, Investment Rates for Planning Investments, and District Organizations from October 1, 2005 until November 14, 2005. The effective date of all other provisions of the interim final rule remains October 1, 2005. This final rule also extends the deadline for submitting public comments on the entire interim final rule from 5 p.m. (e.s.t.) on October 11, 2005 until 5 p.m. (e.s.t.) on November 14, 2005. The procedure for filing public comments is set forth in the interim final rule and is not changed by this final rule. The delay in effective date and the extension of the public comment period are necessary to provide additional time for the submission of public comments and to allow for EDA's additional consideration of matters pertaining to the effective implementation of the interim final rule.

Classification

Prior notice and opportunity for public comment are not required for rules concerning public property, loans, grants, benefits, and contracts (5 U.S.C. 553(a)(2)). Because prior notice and an opportunity for public comment are not required pursuant to 5 U.S.C. 553 or any other law, the analytical requirements of the Regulatory Flexibility Act (5 U.S.C. 601 et seq.) are inapplicable. Therefore, a regulatory flexibility analysis has not been prepared.

Executive Order No. 12866

It has been determined that this final rule is not significant for purposes of Executive Order 12866.

Congressional Review Act

This final rule is not “major” under the Congressional Review Act (5 U.S.C. 801 et seq.).

Executive Order No. 13132

Executive Order 13132 requires agencies to develop an accountable process to ensure “meaningful and timely input by State and local officials in the development of regulatory policies that have federalism implications.” “Policies that have federalism implications” is defined in Executive Order 13132 to include regulations that have “substantial direct effects on the States, on the relationship between the national government and the States, or on the distribution of power and responsibilities among the various levels of government.” It has been determined that this final rule does not contain policies that have federalism implications.

Dated: September 28, 2005.
Benjamin Erulkar,
Chief Counsel, Economic Development Administration.

[FR Doc. 05-19705 Filed 9-29-05; 8:45 am]

BILLING CODE 3510-24-P